DEPARTMENT OF THE INTERIOR

Bureau of Land Management

[LLNMP00000 L13110000.PP0000 15XL1109PF]

Notice of Public Meeting, Pecos District Resource Advisory Council Meeting, New Mexico

AGENCY: Bureau of Land Management, Interior.

ACTION: Notice of public meeting.

SUMMARY: In accordance with the Federal Land Policy and Management Act and the Federal Advisory Committee Act, Bureau of Land Management's (BLM) Pecos District Resource Advisory Council (RAC) will meet as indicated below.

DATES: The RAC will meet on October 15, 2015, at the Carlsbad Field Office, 620 East Greene Street, Carlsbad, New Mexico, from 9 a.m.-4 p.m. The public may send written comments to the RAC at the BLM Pecos District, 2909 West 2nd Street, Roswell, New Mexico, 88201.

FOR FURTHER INFORMATION CONTACT: Howard Parman, Pecos District Office, Bureau of Land Management, 2909 West 2nd Street, Roswell, New Mexico 88201, 575-627-0212. Persons who use a telecommunications device for the deaf (TDD) may call the Federal Information Relay Service (FIRS) at 1-800-877-8229 to contact the above individual during normal business hours. The FIRS is available 24 hours a day, 7 days a week, to leave a message or question with the above individual. You will receive a reply during normal business hours.

SUPPLEMENTARY INFORMATION: The 10-member Pecos District RAC advises the Secretary of the Interior, through the BLM, on a variety of planning and management issues associated with public land management in the BLM's Pecos District. Planned agenda items include: Election of a new chairman; report on the status of the Carlsbad plan revision; an overview of penalties for non-compliance for oil and gas development activities; presentations by both BLM staff and cave interests regarding the BLM's management of caves in regards to containing the spread of white nose syndrome; and a field trip to the Delaware and Black Rivers to discuss issues associated with these bodies of water.

All RAC meetings are open to the public. There will be a half-hour public comment period at 9:30 a.m. for any interested members of the public who wish to address the RAC. Depending on the number of persons wishing to speak and time available, the time for individual comments may be limited.

Debby Lucero,
Acting Deputy State Director, Lands and Resources.

[FR Doc. 2015-21284 Filed 8-26-15; 8:45 am]

BILLING CODE 4310-FB-P